DEPARTMENT OF TRANSPORTATION

Federal Aviation Administration

14 CFR Part 39

[Docket No. FAA-2008-1318; Directorate Identifier 2008-NM-155-AD]

RIN 2120-AA64

Airworthiness Directives; Bombardier Model CL-600-2B19 (Regional Jet Series 100 & 440) Airplanes

AGENCY: Federal Aviation Administration (FAA), DOT.

ACTION: Notice of proposed rulemaking (NPRM).

SUMMARY: We propose to adopt a new airworthiness directive (AD) for the products listed above that would supersede an existing AD. This proposed AD results from mandatory continuing airworthiness information (MCAI) originated by an aviation authority of another country to identify and correct an unsafe condition on an aviation product. The MCAI describes the unsafe condition as:

* * * * *

* *

The Bombardier CL-600-2B19 airplanes have had a history of flap failures at various positions for several years. Flap failure may result in a significant increase in required landing distances and higher fuel consumption than planned during a diversion. * * *

* * * * *

The proposed AD would require actions that are intended to address the unsafe condition described in the MCAI.

DATES: We must receive comments on this proposed AD by January 20, 2009.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Parrillo, Aerospace Engineer, Systems and Flight Test Branch, ANE-171, FAA, New York ACO, 1600 Stewart Avenue, Suite 410, Westbury, New York 11590; telephone (516) 228-7305; fax (516) 794-5531.

SUPPLEMENTARY INFORMATION:

Comments Invited

We invite you to send any written relevant data, views, or arguments about this proposed AD. Send your comments to an address listed under the ADDRESSES section. Include “Docket No. FAA-2008-1318; Directorate Identifier 2008-NM-155-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On January 3, 2008, we issued AD 2008-01-04, Amendment 39-15329 (73 FR 1964, January 11, 2008), which superseded AD 2007-17-07, Amendment 39-15165 (72 FR 46555, August 21, 2007). That AD required actions intended to address an unsafe condition on the products listed above.

Since we issued AD 2008-01-04, we received a report that the AD was not effective in reducing the number of flap failures on Model CL-600-2B19 airplanes. Transport Canada Civil Aviation (TCCA), which is the aviation authority for Canada, has issued Canadian Airworthiness Directive CF-2007-10R1, dated August 18, 2008 (referred to after this as “the MCAI”), to correct an unsafe condition for the specified products. The MCAI states:

* * * * *

The Bombardier CL-600-2B19 airplanes have had a history of flap failures at various positions for several years. Flap failure may result in a significant increase in required landing distances and higher fuel consumption than planned during a diversion. * * *

* * * * *

This proposed AD would supersede AD 2008-01-04 and would retain the requirements of that AD, i.e., revising the airplane flight manual (AFM) to incorporate a temporary revision into the AFM, adding operational procedures into the AFM, training flight crewmembers and operational control/dispatch personnel on the operational procedures, and doing corrective maintenance actions.

This proposed AD would also add corrective maintenance actions that include a pressure test of the flexible drive-shaft and corrective actions (which include replacing any flexible drive-shaft that exhibits leakage (any sign of bubbles within one minute during the pressure test in water) with a serviceable flexible drive-shaft), and a low temperature torque test of the flap actuators and corrective actions (which include installing a serviceable actuator if torque test results are not satisfactory).

This proposed AD would also require revising the AFM to incorporate a new temporary revision (TR) into the AFM. The TR adds maximum flaps operating speed data and clarifies maximum flaps extended speeds. This proposed AD would also modify the Operational Limitations and the annual simulator training for “Flap Zero Landing” events.

In addition, this proposed AD also would require certain maintenance actions (including checking flap system components and repairing or replacing components of the flap system) following a flap fail event and installing a cockpit placard that specifies new flap operating limitations. This proposed AD would also allow installing modified flap actuators, which would terminate certain sections of the operational procedures.

This proposed AD also re-identifies the airplanes affected by paragraph (g)(3) of the existing AD. The accumulated time on the actuators specified in paragraphs (g)(3)(i) and (g)(3)(ii) of this AD has been extended from “2,000 flight hours” to “5,000 flight cycles.” This proposed AD would also require repetitive low temperature torque tests of the flap actuators.

You may obtain further information by examining the MCAI in the AD docket.

Relevant Service Information

Bombardier has issued the following service information:

• Service Bulletin 601R-11-090, dated August 15, 2008;

• Service Bulletin 601R-27-150, dated July 12, 2007;

• Service Bulletin 601R-27-151, Revision B, dated June 12, 2008;

• Canadair Regional Jet TR RJ/165-1, dated August 7, 2008, to the Canadair Regional Jet Airplane Flight Manual CSP A-012; and

• Canadair Regional Jet TR 05-035, dated July 13, 2007, to the Canadair Regional Jet Aircraft Maintenance Manual; and Section 27-50-00, Revision 38, dated January 10, 2008, of the Canadair Regional Jet Fault Isolation Manual.

The actions described in this service information are intended to correct the unsafe condition identified in the MCAI.

Clarification of Part Number Reference

In paragraph (g)(3) of AD 2008-01-04, we referred only to the vendor part numbers 852D100-19/-21, 853D100-19/-20, and 854D100-19/-20. In paragraph (g)(3) of this proposed AD, we have added the corresponding Bombardier part numbers 601R93101-19/-21, 601R93103-19/-20, and 601R93104-19/-20.

Method of Compliance With AD 2006-12-21

Installing flap actuators in accordance with paragraph (h)(5) of the proposed AD is acceptable for compliance with the installation of Number 3 and Number 4 flap actuators required by paragraph (h) of AD 2006-12-21, Amendment 39-14647 (71 FR 34793, June 16, 2006), for that actuator only. The remaining requirements of paragraph (h) of AD 2006-12-21 remain in effect.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 684 products of U.S. registry. We also estimate that it would take about 18 work-hours per product to comply with the basic requirements of this proposed AD. The average labor rate is $80 per work-hour. Required parts would cost a negligible amount per product. Where the service information lists required parts costs that are covered under warranty, we have assumed that there will be no charge for these costs. As we do not control warranty coverage for affected parties, some parties may incur costs higher than estimated here. Based on these figures, we estimate the cost of the proposed AD on U.S. operators to be $984,960, or $1,440 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15329 (73 FR 1964, January 11, 2008) and adding the following new AD:

Bombardier, Inc. (Formerly Canadair): Docket No. FAA-2008-1318; Directorate Identifier 2008-NM-155-AD.

Comments Due Date

(a) We must receive comments by January 20, 2009.

Affected ADs

(b) The proposed AD supersedes AD 2008-01-04, Amendment 39-15329.

Applicability

(c) This AD applies to Bombardier Model CL-600-2B19 (Regional Jet Series 100 & 440) airplanes, certificated in any category, serial numbers 7003 through 7990 and 8000 and subsequent.

Subject

(d) Air Transport Association (ATA) of America Code 27: Flight controls.

Reason

(e) The mandatory continuing airworthiness information (MCAI) states:

* * * * *

The Bombardier CL-600-2B19 airplanes have had a history of flap failures at various positions for several years. Flap failure may result in a significant increase in required landing distances and higher fuel consumption than planned during a diversion. * * *

* * * * *

This AD supersedes AD 2008-01-04 and retains the requirements of that AD, i.e., revising the airplane flight manual (AFM) to incorporate a temporary revision into the AFM, adding operational procedures into the AFM, training flight crewmembers and operational control/dispatch personnel on the operational procedures, and doing corrective maintenance actions. This AD also adds corrective maintenance actions that include a pressure test of the flexible drive-shaft and corrective actions, and a low temperature torque test of the flap actuators and corrective actions. This AD also requires revising the AFM to incorporate a new temporary revision (TR) into the AFM. The TR adds maximum flaps operating speed data and clarifies maximum flaps extended speeds. This AD also modifies the Operational Limitations and the annual simulator training for “Flap Zero Landing” events. In addition, this AD also requires certain maintenance actions following a flap fail event and installing a cockpit placard that specifies new flap operating limitations. This AD also allows installing modified flap actuators, which would terminate certain sections of the operational procedures. This AD also requires repetitive low temperature torque tests of the flap actuators.

Requirements of AD 2007-17-07, Amendment 39-15165: Actions and Compliance

(f) Unless already done, do the following actions.

(1) Part I. Airplane Flight Manual (AFM) Change: Within 30 days after September 5, 2007 (the effective date of AD 2007-17-07), revise the Canadair Regional Jet Airplane Flight Manual CSP A-012, by incorporating the information in Canadair Regional Jet Temporary Revision (TR) RJ/165, dated July 6, 2007, into the AFM. Accomplishing the requirements of paragraph (h)(1) of this AD terminates the requirements of this paragraph and the AFM revision required by this paragraph may be removed from the AFM.

Note 1: The actions required by paragraph (f)(1) of this AD may be done by inserting a copy of Canadair Regional Jet TR RJ/165, dated July 6, 2007, into the Canadair Regional Jet Airplane Flight Manual CSP A-012. When this TR has been included in general revisions of the AFM, the general revisions may be inserted in the AFM.

(2) Part II. Operational Procedures: Within 30 days after September 5, 2007, revise the Limitations Section of the Canadair Regional Jet Airplane Flight Manual CSP A-012, to include the following statement. This may be done by inserting a copy of paragraph (f)(2) of this AD in the AFM. Accomplishing the requirements of paragraph (h)(2) of this AD terminates the requirements of this paragraph and the AFM revision required by this paragraph may be removed from the AFM.

“1. Flap Extended Diversion

Upon arrival at the destination airport, an approach shall not be commenced, nor shall the flaps be extended beyond the 0 degree position, unless one of the following conditions exists:

a. When conducting a precision approach, the reported visibility (or RVR) is confirmed to be at or above the visibility associated with the landing minima for the approach in use, and can be reasonably expected to remain at or above this visibility until after landing; or

b. When conducting a non-precision approach, the reported ceiling and visibility (or RVR) are confirmed to be at or above the ceiling and visibility associated with the landing minima for the approach in use, and can be reasonably expected to remain at or above this ceiling and visibility until after landing; or

c. An emergency or abnormal situation occurs that requires landing at the nearest suitable airport; or

d. The fuel remaining is sufficient to conduct the approach, execute a missed approach, divert to a suitable airport with the flaps extended to the landing position, conduct an approach at the airport and land with 1000 lb (454 kg) of fuel remaining.

Note 1: The fuel burn factor (as per AFM TR/165) shall be applied to the normal fuel consumption for calculation of the flaps extended missed approach, climb, diversion and approach fuel consumption.

Note 2: Terrain and weather must allow a minimum flight altitude not exceeding 15,000 feet along the diversion route.

Note 3: For the purpose of this AD, a “suitable airport” is an airport that has at least one usable runway, served by an instrument approach if operating under Instrument Flight Rules (IFR), and the airport is equipped as per the applicable regulations and standards for marking and lighting. The existing and forecast weather for this airport shall be at or above landing minima for the approach in use.

2. Flap Failure After Takeoff

When a takeoff alternate is filed, terrain and weather must allow a minimum flight altitude not exceeding 15,000 feet along the diversion route to that alternate, or other suitable airport. The fuel at departure shall be sufficient to divert to the takeoff alternate or other suitable airport with the flaps extended to the takeoff position, conduct an approach and land with 1000 lb (454 kg) of fuel remaining.

Note: The fuel burn factor (as per AFM TR/165) shall be applied to the normal fuel consumption for calculation of the flaps extended, climb, diversion and approach fuel consumption.

3. Flap Zero Landing

Operations where all useable runways at the destination and alternate airports are forecast to be wet or contaminated (as defined in the AFM) are prohibited during the cold weather season (December to March inclusive in the northern hemisphere) unless one of the following conditions exists:

a. The flap actuators have been verified serviceable in accordance with Part C (Low Temperature Torque Test of the Flap Actuators) of SB 601R-27-150, July 12, 2007, or

b. The flight is conducted at a cruise altitude where the SAT is −60 deg C or warmer. If the SAT in flight is colder than −60 deg C, descent to warmer air shall be initiated within 10 minutes, or

c. The Landing Distance Available on a useable runway at the destination airport is at least equal to the actual landing distance required for flaps zero. This distance shall be based on Bombardier performance data, and shall take into account forecast weather and anticipated runway conditions, or

d. The Landing Distance Available on a useable runway at the filed alternate airport, or other suitable airport is at least equal to the actual landing distance for flaps zero. This distance shall be based on Bombardier performance data, and shall take into account forecast weather and anticipated runway conditions.

Note 1: If the forecast destination weather is less than 200 feet above DH or MDA, or less than 1 mile (1500 meters) above the authorized landing visibility (or equivalent RVR), as applied to the usable runway at the destination airport, condition 3.a., 3.b., or 3.d. above must be satisfied.

Note 2: When conducting No Alternate IFR (NAIFR) operations, condition 3.a., 3.b., or 3.c. above must be satisfied.”

[/FOL LIT]

(3) Part III. Training: As of 30 days after September 5, 2007, no affected airplane may be operated unless the flight crewmembers of that airplane and the operational control/dispatch personnel for that airplane have received training that is acceptable to the Principal Operations Inspector (POI) on the operational procedures required by paragraph (f)(2) of this AD. Accomplishing the requirements of paragraph (h)(3)(i) of this AD terminates the requirements of this paragraph.

(4) Part IV. Maintenance Actions: Within 120 days after September 5, 2007, do the cleaning and lubrication of the flexible shafts, installation of metallic seals in the flexible drive-shafts, and all applicable related investigative and corrective actions by doing all the applicable actions specified in “PART A” of the Accomplishment Instructions of Bombardier Service Bulletin 601R-27-150, dated July 12, 2007; except if torque test results are not satisfactory, before further flight, install a serviceable actuator in accordance with the service bulletin or, if no serviceable actuators are available, contact the Manager, New York Aircraft Certification Office, FAA, for corrective action. Do all applicable related investigative and corrective actions before further flight.

Requirements of AD 2008-01-04: Actions and Compliance With Revised Affected Airplanes for Paragraph (g)(3)

(g) Unless already done, do the following actions.

(1) As of November 30, 2008, no affected airplane may be operated unless the flight crewmembers of that airplane have received simulator training on reduced or zero flap landing that is acceptable to the POI. Thereafter, this training must be done during the normal simulator training cycle, at intervals not to exceed 12 months. Accomplishing the requirements of paragraph (h)(3)(ii) of this AD terminates the requirements of this paragraph.

(2) Within 24 months or 4,000 flight hours after February 15, 2008 (the effective date of AD 2008-01-04), whichever occurs first: Do a pressure test of the flexible drive-shaft, and do all applicable corrective actions, by doing all the applicable actions specified in “PART B” of the Accomplishment Instructions of Bombardier Service Bulletin 601R-27-150, dated July 12, 2007. Do all applicable corrective actions before further flight.

(3) For airplanes having flap actuators, part numbers (P/Ns), 852D100-19/-21, 853D100-19/-20, and 854D100-19/-20 (Bombardier P/Ns 601R93101-19/-21, 601R93103-19/-20, and 601R93104-19/-20), specified in paragraphs (g)(3)(i) and (g)(3)(ii) of this AD: Within 24 months after February 15, 2008, do a low temperature torque test of the flap actuators, and do all applicable corrective actions, by doing all the applicable actions specified in “PART C” of the Accomplishment Instructions of Bombardier Service Bulletin 601R-27-150, dated July 12, 2007. Do all applicable corrective actions before further flight.

(i) Airplanes having actuators that have not been repaired and that have accumulated more than 5,000 flight cycles since new.

(ii) Airplanes having actuators that have been repaired and that have accumulated more than 5,000 flight cycles on the inboard pinion shaft seals, P/Ns 853SC177-1/-2.

New Requirements of This AD: Actions and Compliance

(h) Unless already done, do the following actions.

(1) Part I. New AFM Change: Within 30 days after the effective date of this AD, revise the Canadair Regional Jet Airplane Flight Manual (AFM) CSP A-012, by incorporating the information in Canadair Regional Jet Temporary Revision (TR) RJ/165-1, dated August 7, 2008, into the airplane flight manual. Accomplishing this action terminates the requirements of paragraph (f)(1) of this AD and after this action has been done, the AFM revision required by paragraph (f)(1) of this AD may be removed from the AFM.

Note 2: The actions required by paragraph (h)(1) of this AD may be done by inserting a copy of Canadair Regional Jet TR RJ/165-1, dated August 7, 2008, into the Canadair Regional Jet AFM CSP A-012. When this TR has been included in general revisions of the AFM, the general revisions may be inserted in the AFM.

(2) Part II. New Operational Procedures: Within 30 days after the effective date of this AD, revise the Limitations Section of the Canadair Regional Jet AFM CSP A-012, to include the following statement. This may be done by inserting a copy of paragraph (h)(2) of this AD into the AFM. Accomplishing this action terminates the requirements of paragraph (f)(2) of this AD and after this action has been done, the AFM revision required by paragraph (f)(2) of this AD may be removed from the AFM.

“1. Flap Extended Diversion

Upon arrival at the destination airport, an approach shall not be commenced, nor shall the flaps be extended beyond the 0 degree position, unless one of the following conditions exists:

a. When conducting a precision approach, the reported visibility (or RVR) is confirmed to be at or above the visibility associated with the landing minima for the approach in use, and can be reasonably expected to remain at or above this visibility until after landing; or

b. When conducting a non-precision approach, the reported ceiling and visibility (or RVR) are confirmed to be at or above the ceiling and visibility associated with the landing minima for the approach in use, and can be reasonably expected to remain at or above this ceiling and visibility until after landing; or

c. An emergency or abnormal situation occurs that requires landing at the nearest suitable airport; or

d. The fuel remaining is sufficient to conduct the approach, execute a missed approach, divert to a suitable airport with the flaps extended to the landing position, conduct an approach at the airport and land with 1000 lb (454 kg) of fuel remaining.

Note 1: The fuel burn factor (as per AFM TR/165) shall be applied to the normal fuel consumption for calculation of the flaps extended missed approach, climb, diversion and approach fuel consumption.

Note 2: Terrain and weather must allow a minimum flight altitude not exceeding 15,000 feet along the diversion route.

Note 3: For the purpose of this AD, a “suitable airport” is an airport that has at least one usable runway, served by an instrument approach if operating under Instrument Flight Rules (IFR), and the airport is equipped as per the applicable regulations and standards for marking and lighting. The existing and forecast weather for this airport shall be at or above landing minima for the approach in use.

2. Flap Failure After Takeoff

When a takeoff alternate is filed, terrain and weather must allow a minimum flight altitude not exceeding 15,000 feet along the diversion route to that alternate, or other suitable airport. The fuel at departure shall be sufficient to divert to the takeoff alternate or other suitable airport with the flaps extended to the takeoff position, conduct an approach and land with 1000 lb (454 kg) of fuel remaining.

Note: The fuel burn factor (as per AFM TR/165) shall be applied to the normal fuel consumption for calculation of the flaps extended, climb, diversion and approach fuel consumption.

3. Flap Zero Landing

Operations where all useable runways at the destination and alternate airports are forecast to be wet or contaminated (as defined in the AFM) are prohibited during the cold weather season (December to March inclusive in the northern hemisphere) unless one of the following four conditions (a. through d.) exists:

a. Each installed flap actuator meets one of the following three conditions:

(i) Actuators have less than 5000 flight cycles (FC) since new or overhaul and/or the actuators have been verified serviceable in accordance with Part C (Low Temperature Torque Test of the Flap Actuators) of Bombardier Service Bulletin (SB) 601R-27-150, issued July 12, 2007, or

(ii) Actuators have P/N 601R93101-19/-21 (Vendor P/N 852D100-19/-21), P/N 601R93103-19/-20 (Vendor P/N 853D100-19/-20), or P/N 601R93104-19/-20 (Vendor P/N 854D100-19/-20), and have less than 5000 FC since repair (where it can be shown that the actuator inboard pinion seals, Eaton P/Ns 853SC177-1 and -2, were replaced), or

(iii) Actuators have P/N 601R93101-23/-25 (Vendor P/N 852D100-23/-25) installed at all inboard flap positions, P/N 601R93103-23/-24 (Vendor P/N 853D100-23/-24) installed at outboard flap No.3 position, and P/N 601R93104-23/-24 (Vendor P/N 854D100-23/-24) installed at outboard flap No.4 position.

b. Pre-dispatch forecast ground temperature at the time of arrival at destination airport is above −25 deg C, utilizing a reliable weather forecast service acceptable to the principal operations inspector (POI).

c. The Landing Distance Available on a useable runway at the destination airport is at least equal to the actual landing distance required for flaps zero. This distance shall be based on Bombardier performance data, and shall take into account forecast weather and anticipated runway conditions.

d. The Landing Distance Available on a useable runway at the filed alternate airport, or other suitable airport is at least equal to the actual landing distance for flaps zero. This distance shall be based on Bombardier performance data, and shall take into account forecast weather and anticipated runway conditions.

Note 1: If the forecast destination weather is less than 200 feet above DH or MDA, or less than 1 mile (1500 meters) above the authorized landing visibility (or equivalent RVR), as applied to the usable runway at the destination airport, condition 3.a., 3.b., or 3.d. above must be satisfied.

Note 2: When conducting No Alternate IFR (NAIFR) operations, condition 3.a., 3.b., or 3.c. above must be satisfied.”

4. Dispatch Following a Flap Failed Event

If normal flap system operation can be restored after an on-ground system reset, continued revenue operation of that airplane is permitted, provided conditions a., and b., and c. or d., below are satisfied:

a. Prior to dispatch following an on-ground circuit breaker reset, the flaps must be operated for five full extension/retraction cycles by the flight crew with no subsequent failures.

b. Prior to dispatch following an on-ground circuit breaker reset, the thrust reversers, ground spoilers and brake system are verified operational prior to each flight.

c. The Landing Distance Available on a useable runway at the destination airport is at least equal to the actual landing distance required for flaps zero. This distance shall be based on Bombardier performance data, and shall take into account forecast weather and anticipated runway conditions.

d. The Landing Distance Available on a useable runway at the filed alternate airport, or other suitable airport is at least equal to the actual landing distance for flaps zero. This distance shall be based on Bombardier performance data, and shall take into account forecast weather and anticipated runway conditions.

Note 1: If the forecast destination weather is less than 200 feet above DH or MDA, or less than 1 mile (1500 meters) above the authorized landing visibility (or equivalent RVR), as applied to the usable runway at the destination airport, condition 4.d. above must be satisfied.

Note 2: When conducting No Alternate IFR (NAIFR) operations, condition 4.c. above must be satisfied.”

(3) Part III. New Training: Do the requirements specified in paragraphs (h)(3)(i) and (h)(3)(ii) of this AD.

(i) As of 30 days after the effective date of this AD, no affected airplane may be operated unless the flight crewmembers of that airplane and the operational control/dispatch personnel for that airplane have received training that is acceptable to the Principal Operations Inspector (POI) on the operational procedures required by paragraph (h)(2) of this AD. Accomplishing this action terminates the requirements specified in paragraph (f)(3) of this AD.

(ii) As of September 30, 2009, no affected airplane may be operated unless the flight crewmembers of that airplane have received simulator training on reduced or zero flap landing that is acceptable to the Principal Operations Inspector (POI). Thereafter, this training must be done during the normal simulator training cycle, at intervals not to exceed 12 months. Accomplishing this action terminates the requirements specified in paragraph (g)(1) of this AD.

(4) Part IV. New Maintenance Action: For airplanes on which the low temperature torque test of the flap actuators is required by paragraph (g)(3) of this AD: Within 12 months after doing the low temperature torque test specified in paragraph (g)(3) of this AD, do a low temperature torque test of the flap actuators, and do all applicable corrective actions specified in Part C of the Accomplishment Instructions of Bombardier Service Bulletin 601R-27-150, dated July 12, 2007. Do all applicable corrective actions before further flight. For airplanes identified in paragraphs (h)(4)(i) and (h)(4)(ii) of this AD, repeat the low temperature torque test thereafter at intervals not to exceed 12 months.

(i) Airplanes having actuators that have not been repaired and that have accumulated more than 5,000 flight cycles since new.

(ii) Airplanes having actuators that have been repaired and that have accumulated more than 5,000 flight cycles on the inboard pinion shaft seals, P/Ns 853SC177-1/-2.

(5) Part IV. New Optional Maintenance Action: Installation of actuators having P/N 601R93101-23/-25 (Vendor P/N 852D100-23/-25), P/N 601R93103-23/-24 (Vendor P/N 853D100-23/-24), and P/N 601R93104-23/-24 (Vendor P/N 854D100-23/-24) in accordance with Bombardier Service Bulletin 601R-27-151, Revision B, dated June 12, 2008, terminates the requirements of paragraph “3. Flap Zero Landing,” of the statement required by paragraph (h)(2) of this AD. After doing the installation specified in this paragraph, paragraph “3. Flap Zero Landing,” specified in paragraph (h)(2) of this AD, may be removed from the limitations section of the AFM.

(6) Part V. Dispatch following a flap fail event: For airplanes on which a flap fail message occurs, prior to further flight, do all applicable maintenance actions in accordance with Section 27-50-00 of the Bombardier CRJ100/200/440 Fault Isolation Manual (FIM) CSP A-009, Revision 38, dated January 10, 2008; except if maintenance actions cannot be done and normal flap system operation can be restored after an on-ground circuit breaker reset operation, then continued revenue operation is permitted without further maintenance action for up to 10 flight cycles, subject to the operating limitations specified by the procedure titled “4. Dispatch Following a Flap Failed Event,” specified in paragraph (h)(2) of this AD; except as provided by paragraphs (h)(6)(i) and (h)(6)(ii) of this AD. The circuit breaker reset operation can be performed by the flightcrew when authorized by the operator's maintenance control organization.

(i) Within 10 flight cycles following the initial on-ground circuit breaker reset operation, do the maintenance actions specified in paragraph (h)(6) of this AD.

(ii) If another flap fail event occurs any time after the initial circuit breaker reset operation, do the maintenance actions specified in paragraph (h)(6) of this AD before further flight.

(7) Part V. Operators are required to report all fault data, including flaps electronic control unit (FECU) codes, to Bombardier within 30 days after each failure occurrence, or 30 days after the effective date of this AD, in accordance with Task 05-51-50-980-801 as introduced in the Canadair Regional Jet TR 05-035, dated July 13, 2007, to the Canadair Regional Jet Aircraft Maintenance Manual (AMM).

(8) Part VI. Cockpit Placard: Within 120 days after the effective date of this AD, install a flight compartment placard in accordance with Bombardier Service Bulletin 601R-11-090, dated August 15, 2008.

Method of Compliance With AD 2006-12-21

(i) Installing flap actuators in accordance with paragraph (h)(5) of this AD is acceptable for compliance with the installation of Number 3 and Number 4 flap actuators required by paragraph (h) of AD 2006-12-21, Amendment 39-14647. All other requirements of paragraph (h) of AD 2006-12-21 are still applicable and must be complied with.

FAA AD Differences

Note 3: This AD differs from the MCAI and/or service information as follows:

(1) The maintenance tasks specified in the first row of the table in “Part IV. Maintenance Actions” of the MCAI do not specify a corrective action if an actuator is not serviceable (i.e., torque test results are not satisfactory). However, this AD requires contacting the FAA or installing a serviceable actuator before further flight if torque test results are not satisfactory. (Reference paragraph (f)(4) of this AD.)

(2) Although paragraph 2. of “Part III. Training” of the MCAI recommends accomplishing the new training within 1 year, this AD requires accomplishing the training before September 30, 2009, in order to ensure that the actions are completed prior to the onset of cold weather operations.

(3) For the Flaps Zero Landing Requirements of Part II 3.a (i), the MCAI refers to actuators with less than 5,000 flight cycles. We have clarified sub-paragraph 3.a.(i) of paragraph “3. Flap Zero Landing,” of the statement specified in paragraph (h)(2) of this AD that the 5,000 flight cycles is since new or overhauled.

(4) For the Flaps Zero Landing requirements of Part II.3 c., the MCAI requires a pre-dispatch forecast ground temperature at the time of arrival at the destination airport to be above −25 deg C. This AD clarifies sub-paragraph 3.b. of paragraph “3. Flap Zero Landing,” of the statement specified in paragraph (h)(2) of this AD that the source of the forecast is to be a reliable weather forecast service acceptable to the principal operations inspector.

Other FAA AD Provisions

(j) The following provisions also apply to this AD:

(1)(i) Alternative Methods of Compliance (AMOCs): The Manager, New York Aircraft Certification Office (ACO), FAA, has the authority to approve AMOCs for this AD, if requested using the procedures found in 14 CFR 39.19. Send information to ATTN: Dan Parrillo, Aerospace Engineer, Systems and Flight Test Branch, ANE-171, FAA, New York ACO, 1600 Stewart Avenue, Suite 410, Westbury, New York 11590; telephone (516) 228-7305; fax (516) 794-5531. Before using any approved AMOC on any airplane to which the AMOC applies, notify your appropriate principal inspector (PI) in the FAA Flight Standards District Office (FSDO), or lacking a PI, your local FSDO.

(ii) AMOCs approved previously in accordance with AD 2008-01-04 are approved as AMOCs for the corresponding provisions of this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(k) Refer to MCAI Canadian Airworthiness Directive CF-2007-10R1, dated August 18, 2008, and the service information identified in Table 1 of this AD for related information.

Table 1—Related Service Information
Service information | Revision level | Date
Bombardier Service Bulletin 601R-27-150 | Original | July 12, 2007.
Bombardier Service Bulletin 601R-27-151 | B | June 12, 2008.
Bombardier Service Bulletin 601R-11-090 | Original | August 15, 2008.
Canadair Regional Jet TR RJ/165 to the Canadair Regional Jet AFM CSP A-012 | Original | July 6, 2007.
Canadair Regional Jet TR RJ/165-1 to the Canadair Regional Jet AFM CSP A-012 | Original | August 7, 2008.
Canadair Regional Jet TR 05-035 to the Canadair Regional Jet AMM | Original | July 13, 2007.
Section 27-50-00 of the Canadair Regional Jet CRJ100/200/440 FIM | 38 | January 10, 2008.

Issued in Renton, Washington, on December 11, 2008.
Dionne Palermo,
Acting Manager, Transport Airplane Directorate, Aircraft Certification Service.

[FR Doc. E8-30037 Filed 12-17-08; 8:45 am]

BILLING CODE 4910-13-P